NUCLEAR REGULATORY COMMISSION

10 CFR Part 50

RIN 3150-AH80

Incorporation by Reference of American Society of Mechanical Engineers Boiler and Pressure Vessel Code Cases

AGENCY: Nuclear Regulatory Commission.

ACTION: Proposed rule.

SUMMARY: The Nuclear Regulatory Commission (NRC) is proposing to amend its regulations to incorporate by reference the latest revisions of two previously incorporated regulatory guides (RGs) that approve Code cases published by the American Society of Mechanical Engineers (ASME). These RGs are 1.84, “Design and Fabrication Code Case Acceptability, ASME Section III,” Revision 34 and RG 1.147, “Inservice Inspection Code Case Acceptability, ASME Section XI, Division 1,” Revision 15. This proposed action would allow licensees to use the Code Cases listed in the regulatory guides as alternatives to requirements in the ASME BPV Code regarding the construction and inservice inspection of nuclear power plant components.

DATES: Submit comments on the rule by January 10, 2007. Comments received after this date will be considered if it is practical to do so, but the Commission is able to ensure consideration only of comments received on or before this date.

ADDRESSES: You may submit comments by any one of the following methods. Please include the following number RIN 3150-AH80 in the subject line of your comments. Comments on rulemakings submitted in writing or in electronic form will be made available to the public in their entirety on the NRC rulemaking web site. Personal information will not be removed from your comments.

Mail comments to: Secretary, U.S. Nuclear Regulatory Commission, Washington, DC 20555-0001, ATTN: Rulemakings and Adjudications Staff.

E-mail comments to: SECY@nrc.gov. If you do not receive a reply confirming that we have received your comments, contact us directly at (301) 415-1966. You may also submit comments via the NRC's rulemaking Web site at http://ruleforum.llnl.gov. Address questions about our rulemaking Web site to Carol Gallagher (301) 415-5905; e-mail CAG@nrc.gov. Comments can also be submitted via the Federal Rulemaking Portal http://www.regulations.gov.

Hand deliver comments to: 11555 Rockville Pike, Rockville, Maryland 20852, between 7:30 a.m. and 4:15 p.m. on Federal workdays. (Telephone (301) 415-1966)

Fax comments to: Secretary, U.S. Nuclear Regulatory Commission at (301) 415-1101.

Copies of the draft regulatory guides specified in this rulemaking and other publicly available documents related to this proposed rule, including public comments received, can be viewed electronically on public computers in the NRC Public Document Room (PDR), located at One White Flint North, 11555 Rockville Pike, Rockville, Maryland Room O-1 F21, and open to the public on Federal workdays from 7:45 a.m. until 4:15 p.m. The PDR reproduction contractor will make copies of documents for a fee. Selected documents, including public comments on the proposed rule, can be viewed and downloaded electronically via the NRC's rulemaking Web site at http://ruleform.llnl.gov.

Publicly available NRC documents created or received in connection with this rulemaking are also available electronically via the NRC's Electronic Reading Room at http://www.nrc.gov/NRC/reading-rm/adams.html. From this site, the public can gain entry into the NRC's Agencywide Document Access and Management System (ADAMS), which provides text and image files of NRC's public documents. If you do not have access to ADAMS or if there are problems in accessing the documents located in ADAMS contact the NRC Public Document Room (PDR) Reference staff at 1-800-397-4209, 301-415-4737 or by e-mail to PDR@nrc.gov.

Further information about obtaining documents relevant to this rulemaking, including a list of ADAMS accession numbers, can be found in the “Availability of Documents” Section under the SUPPLEMENTARY INFORMATION heading.

FOR FURTHER INFORMATION CONTACT: Lee Banic, Office of Nuclear Reactor Regulation, U.S. Nuclear Regulatory Commission, Washington, DC 20555-0001, telephone (301) 415-2771, e-mail mjb@nrc.gov.

SUPPLEMENTARY INFORMATION:

Background

The American Society of Mechanical Engineers (ASME) develops and publishes the Boiler and Pressure Vessel Code (BPV Code), which contains the Code requirements for the design, construction, and inservice inspection (ISI) of nuclear power plant components, and the Code for Operation and Maintenance of Nuclear Power Plants (OM Code), which contains Code requirements for inservice testing (IST) of nuclear power plant components. In response to BPV and OM Code user requests, the ASME develops Code Cases which provide alternatives to BPV and OM Code requirements under special circumstances.

Discussion

The NRC staff reviews ASME BPV and OM Code Cases, rules upon the acceptability of each Code Case, and publishes its findings in regulatory guides. The regulatory guides are revised periodically as new Code Cases are published by the ASME. The NRC incorporates by reference the regulatory guides listing acceptable and conditionally acceptable ASME Code Cases in 10 CFR 50.55a. Currently, NRC Regulatory Guide 1.84, Revision 33, “Design, Fabrication, and Materials Code Case Acceptability, ASME Section III,” NRC Regulatory Guide 1.147, Revisions 0 through 14, “Inservice Inspection Code Case Acceptability, ASME Section XI, Division 1,” and NRC Regulatory Guide 1.192, “Operation and Maintenance Code Case Acceptability, ASME OM Code” are incorporated into NRC's regulations, specifically 10 CFR 50.55a, “Codes and Standards.”

This proposed rule would incorporate by reference the latest revisions of the NRC regulatory guides that list acceptable and conditionally acceptable ASME BPV Code Cases. Draft Regulatory Guide (RG) 1.84, Revision 34 [temporarily designated DG-1133] would supersede the incorporation by reference of Revision 33 and Draft RG 1.147, Revision 15 [temporarily designated DG-1134] would supersede the incorporation by reference of Revisions 0 through 14. Revision 15 of Regulatory Guide 1.147 supersedes all previous revisions of the RG. To make Regulatory Guide 1.147 easier to use, there was an effort to ensure that the tables of annulled Code Cases in Revision 15 were all inclusive. The result should be that licensees will no longer have to refer to multiple versions of this regulatory guide in managing Code Case usage in their ISI programs. RG 1.192, Operation and Maintenance Code Case Acceptability, ASME OM Code (June 2003), has not been revised because no new OM Code Cases have been published by the ASME since the last NRC staff review.

The ASME recently changed its policy with regard to the effective period for Code Cases. Previously, a Code Case was approved with a 3-year expiration date. With the policy change, a Code Case is approved without an expiration date and is effective until the ASME takes action. Some of the Code Cases listed in the regulatory guides were reviewed by the NRC prior to implementation of the new policy (i.e., Code Case reaffirmation dates appear in some tables). Subsequent revisions of the regulatory guides will reflect the discontinuance of expiration dates.

The endorsement of a Code Case in NRC RGs constitutes acceptance of its technical position for applications not precluded by regulatory or other requirements or by the recommendations in these or other regulatory guides. The licensee is responsible for ensuring that use of the Code Case does not conflict with regulatory requirements or licensee commitments. The Code Cases listed in the RGs are acceptable for use within the limits specified in the Code Case.

Code Cases may be revised for many reasons, for example to incorporate operational examination and testing experience and to update material requirements based on research results. On occasion, an inaccuracy in an equation is discovered or an examination as practiced is found not to be adequate to detect a newly discovered degradation mechanism. Hence, when a licensee initially implements a Code Case, 10 CFR 50.55a requires that the licensee implement the most recent version of that Code Case as listed in the RGs incorporated by reference. Code Cases superseded by revision are no longer acceptable for initial application unless otherwise indicated.

Section III applies only to new construction (i.e., the edition and addenda to be used in the construction of a plant are selected based on the date of the construction permit and are not changed thereafter, except voluntarily by the licensee). Hence, if a Section III Code Case is implemented by a licensee and a later version of the Code Case is incorporated by reference into § 50.55a and listed in the RGs, the licensee may use either version of the Code Case (subject, however, to whatever change requirements apply to its licensing basis, e.g., 10 CFR 50.59).

Section XI ISI and OM IST programs are updated every 10 years to the latest edition and addenda of Section XI that was incorporated by reference into § 50.55a and in effect 12 months before the start of the next inspection and testing interval. Licensees who were using a Code Case prior to the effective date of its revision may continue to use the previous version for the remainder of the 120-month ISI or IST interval. This relieves licensees of the burden of having to update their ISI or IST program each time a Code Case is revised by the ASME and approved for use by the NRC. Since Code Cases are applicable to specific editions and addenda, and since Code Cases may be revised because they are no longer accurate or adequate, licensees choosing to continue using a Code Case during the subsequent ISI interval must implement the latest version incorporated by reference into § 50.55a and listed in the RGs.

The ASME may annul Code Cases that are no longer required, are determined to be inaccurate or inadequate, or have been incorporated into the BPV or OM Code. If a licensee applied a Code Case before it was listed as annulled or expired, the licensee may continue to use the Code Case until the licensee updates its construction Code of Record or until the licensee's 120-month ISI/IST update interval expires, after which the continued use of the Code Case is prohibited unless NRC approval is granted under § 50.55a(a)(3).

Concurrent with this action, the NRC is publishing notices of availability of these draft regulatory guides listing acceptable ASME BPV Code Cases for public comment. Interested parties may submit comments to the NRC on the draft guides in accordance with the instructions published in the Federal Register notices announcing their availability.

Paragraph-by-Paragraph Discussion

This proposed rule would amend 10 CFR 50.55a to incorporate by reference RG 1.84 Revision 34, in place of Revision 33, and RG 1.147 Revision 15, in place of Revisions 0 through 14.

1. Paragraph 50.55a(b)

In § 50.55a(b), (b)(4), and (b)(5) the reference to the revision number for Regulatory Guide 1.84 would be changed from “Revision 33” to “Revision 34” and the reference to the revision numbers for Regulatory Guide 1.147 would be changed from “through Revision 14” to “Revision 15.”

2. Paragraphs 50.55a(f)(2), (f)(3)(iii)(A), (f)(3)(iv)(A), (f)(4)(ii), (g)(2), (g)(3)(I), (g)(3)(ii), (g)(4)(I), and (g)(4)(ii)

In these paragraphs, the phrase indicating that revisions of Regulatory Guide 1.147 “through Revision 14” are the versions that are incorporated by reference in § 50.55a(b) would be modified to read “Revision 15”. Incorporation by reference of Revision 15 of Regulatory Guide 1.147 would supersede the incorporation by reference of all previous revisions. Revision 15 of Regulatory Guide 1.147 supersedes all previous revisions of the RG. The tables of annulled and superseded Code Cases have been reviewed to ensure that the lists are all inclusive.

Plain Language

The Presidential memorandum entitled “Plain Language in Government Writing” (63 FR 31883; June 10, 1998) directed that the Government's writing be in plain language. The NRC requests comments on the proposed rule specifically with respect to the clarity and effectiveness of the language used. Comments should be sent using one of the methods detailed under the ADDRESSES heading of the preamble to this proposed rule.

Availability of Documents

The NRC is making the documents identified below available to interested persons through one or more of the following:

Public Document Room (PDR). The NRC Public Document Room is located at 11555 Rockville Pike, Public File Area O-1 F21, Rockville, Maryland. Rulemaking Web site (Web). The NRC's interactive rulemaking Web site is located at http://ruleforum.llnl.gov. Selected documents may be viewed and downloaded electronically via this Web site.

The NRC's Public Electronic Reading Room (PERR). The NRC's Public Electronic Reading Room is located at http://www.nrc.gov/reading-rm.html.

Document | PDR | Web | e-Reading room
Proposed Rule—Draft Regulatory Analysis | X | X | ML053430094
Proposed Regulatory Guide 1.84, Rev. 34 (DG-1133) | X | X | ML061210377
Proposed Regulatory Guide 1.147, Rev. 15 (DG-1134) | X | X | ML061210404
Proposed Regulatory Guide 1.193, Rev 1 | X | X | ML050270345

Voluntary Consensus Standards

The National Technology Transfer and Advancement Act of 1995, Public Law 104-113, requires agencies to use technical standards developed or adopted by voluntary consensus standards bodies unless the use of such standards is inconsistent with applicable law or is otherwise impractical. In this action, the NRC would amend its regulations to incorporate by reference regulatory guides that list ASME BPV Code cases approved by the NRC. ASME Code cases, which are ASME-approved alternatives to the provisions of ASME Code editions and addenda, are national consensus standards, as defined in Public Law 104-113 and OMB Circular A-119. They are developed by bodies whose members (including the NRC and utilities) have broad and varied interests.

The NRC reviews each Section III and Section XI Code Case published by the ASME to ascertain whether it is consistent with the safe operation of nuclear power plants. Those Code cases found to be generically acceptable are listed in the regulatory guides that are incorporated by reference in § 50.55a(b). Those that are found to be unacceptable are listed in Regulatory Guide 1.193, entitled Code Cases not Approved for Use; but licensees may still seek NRC's approval to apply these Code cases through the relief request process permitted in § 50.55a(a)(3). Other Code cases, which the NRC finds to be conditionally acceptable are also listed in the RGs that are incorporated by reference along with the modifications and limitations under which they may be applied. If the NRC did not conditionally accept ASME Code Cases, it would disapprove these Code cases entirely. The effect would be that licensees would need to submit a larger number of relief requests which would be an unnecessary additional burden for both the licensee and the NRC. The NRC believes that this situation fits the definition of “impractical” under Public Law 104-113. For these reasons, the treatment of ASME BPV Code cases, and modifications and conditions placed on them, in this proposed rule does not conflict with any policy on agency use of consensus standards specified in OMB Circular A-119.

Finding of No Significant Environmental Impact: Environmental Assessment

In accordance with 10 CFR 51.30, this environmental assessment is provided. It discusses the need for the proposed action; alternatives as required by the National Environmental Policy Act, NEPA; the environmental impacts of the proposed action and alternatives as appropriate; and a list of agencies and persons consulted and identification of sources used.

1. Need for the Proposed Action

This proposed action stems from the Commission's practice of incorporating by reference the Regulatory Guides listing the most current set of NRC-approved ASME Code Cases. The purpose of this proposed action is to allow licensees to use the Code Cases listed in the regulatory guides as alternatives to requirements in the ASME BPV Code for the construction and inservice inspection of nuclear power plant components. This proposed action is intended to advance the NRC's strategic goals of protecting the public health, safety, and the environment, ensuring openness in the regulatory process, and promoting regulatory effectiveness and efficiency. It also demonstrates the agency's commitment to participate in the national consensus standards process under the national Technology Transfer and Advancement Act of 1995, Public Law 104-113.

2. Alternatives as Required by NEPA

NEPA requires Federal government agencies to study the impacts of their “major Federal actions significantly affecting the quality of the human environment” and prepare detailed statements on the environmental impacts of the proposed action and alternatives to the proposed action (United States Code, Vol. 42, Section 4332(C) [42 U.S.C. 4332(C)]; NEPA section 102(C)).

The Commission has determined under NEPA, as amended, and the Commission's regulations in subpart A of 10 CFR part 51, that this rule, if adopted, would not be a major Federal action significantly affecting the quality of the human environment and, therefore, an environmental impact statement is not required. The basis for this determination is given below.

3. Environmental Impacts of the Proposed Action

As alternatives to the ASME Code, NRC-approved Code Cases provide an equivalent level of safety. Therefore the probability or consequences of accidents is not changed. There are also no significant non-radiological impacts associated with the proposed action because no changes would be made affecting non-radiological plant effluents nor in activities that would adversely affect the environment.

4. List of Agencies and Persons Consulted and Sources Used

The determination of this environmental assessment is that there will be no significant offsite impact to the public from this action. However, the general public should note that the NRC is seeking public participation on this assessment. Comments on any aspect of the environmental assessment may be submitted to the NRC as indicated under the ADDRESSES heading of this Federal Register notice.

The NRC is sending a copy of the environmental assessment and this proposed rule to every State Liaison Officer and requesting their comments on the environmental assessment.

Sources relevant to this rulemaking are the ASME BPV Code and RGs 1.84 Revision 34 and 1.147, Revision 15.

Paperwork Reduction Act Statement

This proposed rule does not contain a new or an amended information collection requirement subject to the Paperwork Reduction Act of 1995 (44 U.S.C. 3501 et seq.). Existing requirements were approved by the Office of Management and Budget, approval number 3150-0011.

Public Protection Notification

NRC may not conduct or sponsor, and a person is not required to respond to, a request for information or an information collection unless the requesting document displays a currently valid OMB control number.

Regulatory Analysis

The ASME Code cases listed in the regulatory guides to be incorporated by reference provide voluntary alternatives to the provisions in the ASME BPV Code for design, construction, and inservice inspection (ISI) of specific structures, systems, and components used in nuclear power plants. Implementation of these Code cases is not required. Licensees use NRC-approved ASME Code cases to reduce unnecessary regulatory burden or gain additional operational flexibility. It would be difficult for the NRC to provide these advantages independently of the ASME Code case publication process without expending considerable additional resources. The NRC has prepared a draft regulatory analysis addressing the qualitative benefits of the alternatives considered in this proposed rulemaking and comparing the costs associated with each alternative. The draft regulatory analysis is available for inspection on public computers in the NRC Public Document Room, located at One White Flint North, 11555 Rockville Pike, Rockville, Maryland, Room O-1 F21. Copies of the draft regulatory analysis are also available to the public as indicated under the Availability of Documents heading in this preamble. Its ADAMS number is ML053430094.

Regulatory Flexibility Certification

In accordance with the Regulatory Flexibility Act of 1980, (5 U.S.C. 605(b)), the Commission certifies that this proposed rule would not impose a significant economical impact on a substantial number of small entities. This proposed rule would affect only the licensing and operation of nuclear power plants. The companies that own these plants are not “small entities” as defined in the Regulatory Flexibility Act or the size standards established by the NRC (10 CFR 2.810).

Backfit Analysis

The provisions in this proposed rulemaking would permit, but would not require, licensees to apply NRC-approved Code cases, sometimes with modifications or conditions. Therefore, the implementation of an approved Code case would be voluntary and would not constitute a backfit. Thus, the Commission finds that this proposed rule would not involve any provisions that constitute a backfit as defined in 10 CFR 50.109(a)(1), that the backfit rule would not apply to this proposed rule, and that a backfit analysis is not required.

List of Subjects in 10 CFR Part 50

Antitrust, Classified information, Criminal penalties, Fire protection, Incorporation by reference, Intergovernmental relations, Nuclear power plants and reactors, Radiation protection, Reactor siting criteria, Reporting and recordkeeping requirements.

For the reasons set forth in the preamble and under the authority of the Atomic Energy Act of 1954, as amended; the Energy Reorganization Act of 1974, as amended; and 5 U.S.C. 553, the NRC is proposing to adopt the following amendments to 10 CFR part 50.

PART 50—DOMESTIC LICENSING OF PRODUCTION AND UTILIZATION FACILITIES

1. The authority citation for part 50 is as follows:

Authority: Secs. 102, 103, 104, 105, 161, 182, 183, 186, 189, 68 Stat. 936, 937, 938, 948, 953, 954, 955, 956, as amended, sec. 234, 83 Stat. 444, as amended (42 U.S.C. 2132, 2133, 2134, 2135, 2201, 2232, 2233, 2236, 2239, 2282); secs. 201, as amended, 202, 206, 88 Stat. 1242, as amended, 1244, 1246 (42 U.S.C. 5841, 5842, 5846); sec. 1704, 112 Stat. 2750 (44 U.S.C. 3504 note).

Section 50.7 also issued under Pub. L. 95-601, sec. 10, 92 Stat. 2951 (42 U.S.C. 5851). Section 50.10 also issued under secs. 101, 185, 68 Stat. 955, as amended (42 U.S.C. 2131, 2235); sec. 102, Pub. L. 91-190, 83 Stat. 853 (42 U.S.C. 4332). Sections 50.13, 50.54(d), and 50.103 also issued under sec. 108, 68 Stat. 939, as amended (42 U.S.C. 2138). Sections 50.23, 50.35, 50.55, and 50.56 also issued under sec. 185, 68 Stat. 955 (42 U.S.C. 2235). Sections 50.33a, 50.55a and appendix Q also issued under sec. 102, Pub. L. 91-190, 83 Stat. 853 (42 U.S.C. 4332). Sections 50.34 and 50.54 also issued under sec. 204, 88 Stat. 1245 (42 U.S.C. 5844). Sections 50.58, 50.91, and 50.92 also issued under Pub. L. 97-415, 96 Stat. 2073 (42 U.S.C. 2239). Section 50.78 also issued under sec. 122, 68 Stat. 939 (42 U.S.C. 2152). Sections 50.80-50.81 also issued under sec. 184, 68 Stat. 954, as amended (42 U.S.C. 2234). Appendix F also issued under sec. 187, 68 Stat. 955 (42 U.S.C. 2237).

2. Section 50.55a is amended revising the introductory text of paragraphs (b), (b)(4), and (b)(5), and paragraphs (f)(2), (f)(3)(iii)(A), (f)(3)(iv)(A), (f)(4)(ii), (g)(2), (g)(3)(i), (g)(3)(ii), (g)(4)(i) and (g)(4)(ii) to read as follows:

§ 50.55a Codes and standards.

* * * * *

(b) The ASME Boiler and Pressure Vessel Code and the ASME Code for Operation and Maintenance of Nuclear Power Plants, which are referenced in paragraphs (b)(1), (b)(2), and (b)(3) of this section, were approved for incorporation by reference by the Director of the Office of the Federal Register pursuant to 5 U.S.C. 552(a) and 1 CFR Part 51. NRC Regulatory Guide 1.84, Revision 34, “Design, Fabrication, and Materials Code Case Acceptability, ASME Section III” [temporarily designated DG-1133]; NRC Regulatory Guide 1.147, Revision 15, “Inservice Inspection Code Case Acceptability, ASME Section XI, Division 1” [temporarily designated DG-1134]; and Regulatory Guide 1.192, “Operation and Maintenance Code Case Acceptability, ASME OM Code,” (June 2003), have been approved for incorporation by reference by the Director of the Office of the Federal Register pursuant to 5 U.S.C. 552(a) and 1 CFR Part 51. These regulatory guides list ASME Code cases which the NRC has approved in accordance with the requirements in paragraphs (b)(4), (b)(5), and (b)(6). Copies of the ASME Boiler and Pressure Vessel Code and the ASME Code for Operation and Maintenance of Nuclear Power Plants may be purchased from the American Society of Mechanical Engineers, Three Park Avenue, New York, NY 10016. Single copies of NRC Regulatory Guides 1.84, Revision 34; 1.147, Revision 15; and 1.192 may be obtained free of charge by writing the Reproduction and Distribution Services Section, U.S. Nuclear Regulatory Commission, Washington, DC 20555-0001; or by fax to 301-415-2289; or by e-mail to DISTRIBUTION@nrc.gov. Copies of the ASME Codes and NRC Regulatory Guides incorporated by reference in this section may be inspected at the NRC Technical Library, Two White Flint North, 11545 Rockville Pike, Rockville, MD 20852-2738, or at the National Archives and Records Administration (NARA). For information on the availability of this material at NARA, call 202-741-6030, or go to: http://www.archives.gov/federal_register/code_of_federal_regulations/ ibr_locations.html.

* * * * *

(4) Design, Fabrication, and Materials Code Cases. Licensees may apply the ASME Boiler and Pressure Vessel Code cases listed in NRC Regulatory Guide 1.84, Revision 34, without prior NRC approval subject to the following:

* * * * *

(5) Inservice Inspection Code Cases. Licensees may apply the ASME Boiler and Pressure Vessel Code cases listed in Regulatory Guide 1.147, Revision 15, without prior NRC approval subject to the following:

* * * * *

(f) * * *

(2) For a boiling or pressurized water-cooled nuclear power facility whose construction permit was issued on or after January 1, 1971, but before July 1, 1974, pumps and valves which are classified as ASME Code Class 1 and Class 2 must be designed and be provided with access to enable the performance of inservice tests for operational readiness set forth in editions and addenda of Section XI of the ASME Boiler and Pressure Vessel Code incorporated by reference in paragraph (b) of this section (or the optional ASME Code cases listed in NRC Regulatory Guide 1.147, Revision 15, or 1.192 that are incorporated by reference in paragraph (b) of this section) in effect 6 months before the date of issuance of the construction permit. The pumps and valves may meet the inservice test requirements set forth in subsequent editions of this Code and addenda which are incorporated by reference in paragraph (b) of this section (or the optional ASME Code cases listed in NRC Regulatory Guide 1.147, Revision 15, or 1.192 that are incorporated by reference in paragraph (b) of this section), subject to the applicable limitations and modifications listed therein.

(3) * * *

(iii) * * *

(A) Pumps and valves, in facilities whose construction permit was issued before November 22, 1999, which are classified as ASME Code Class 1 must be designed and be provided with access to enable the performance of inservice testing of the pumps and valves for assessing operational readiness set forth in the editions and addenda of Section XI of the ASME Boiler and Pressure Vessel Code incorporated by reference in paragraph (b) of this section (or the optional ASME Code cases listed in NRC Regulatory Guide 1.147, Revision 15, or 1.192 that are incorporated by reference in paragraph (b) of this section) applied to the construction of the particular pump or valve or the Summer 1973 Addenda, whichever is later.

* * * * *

(iv) * * *

(A) Pumps and valves, in facilities whose construction permit was issued before November 22, 1999, which are classified as ASME Code Class 2 and Class 3 must be designed and be provided with access to enable the performance of inservice testing of the pumps and valves for assessing operational readiness set forth in the editions and addenda of Section XI of the ASME Boiler and Pressure Vessel Code incorporated by reference in paragraph (b) of this section (or the optional ASME Code cases listed in NRC Regulatory Guide 1.147, Revision 15, that are incorporated by reference in paragraph (b) of this section) applied to the construction of the particular pump or valve or the Summer 1973 Addenda, whichever is later.

* * * * *

(4) * * *

(ii) Inservice tests to verify operational readiness of pumps and valves, whose function is required for safety, conducted during successive 120-month intervals must comply with the requirements of the latest edition and addenda of the Code incorporated by reference in paragraph (b) of this section 12 months before the start of the 120-month interval (or the optional ASME Code cases listed in NRC Regulatory Guide 1.147, Revision 15, or 1.192 that are incorporated by reference in paragraph (b) of this section), subject to the limitations and modifications listed in paragraph (b) of this section.

* * * * *

(g) * * *

(2) For a boiling or pressurized water-cooled nuclear power facility whose construction permit was issued on or after January 1, 1971, but before July 1, 1974, components (including supports) which are classified as ASME Code Class 1 and Class 2 must be designed and be provided with access to enable the performance of inservice examination of such components (including supports) and must meet the preservice examination requirements set forth in editions and addenda of Section XI of the ASME Boiler and Pressure Vessel Code incorporated by reference in paragraph (b) of this section (or the optional ASME Code cases listed in NRC Regulatory Guide 1.147, Revision 15, that are incorporated by reference in paragraph (b) of this section) in effect six months before the date of issuance of the construction permit. The components (including supports) may meet the requirements set forth in subsequent editions and addenda of this Code which are incorporated by reference in paragraph (b) of this section (or the optional ASME Code cases listed in NRC Regulatory Guide 1.147, Revision 15, that are incorporated by reference in paragraph (b) of this section), subject to the applicable limitations and modifications.

(3) * * *

(i) Components (including supports) which are classified as ASME Code Class 1 must be designed and be provided with access to enable the performance of inservice examination of these components and must meet the preservice examination requirements set forth in the editions and addenda of Section XI of the ASME Boiler and Pressure Vessel Code incorporated by reference in paragraph (b) of this section (or the optional ASME Code cases listed in NRC Regulatory Guide 1.147, Revision 15, that are incorporated by reference in paragraph (b) of this section) applied to the construction of the particular component.

(ii) Components which are classified as ASME Code Class 2 and Class 3 and supports for components which are classified as ASME Code Class 1, Class 2, and Class 3 must be designed and be provided with access to enable the performance of inservice examination of these components and must meet the preservice examination requirements set forth in the editions and addenda of Section XI of the ASME Boiler and Pressure Vessel Code incorporated by reference in paragraph (b) of this section (or the optional ASME Code cases listed in NRC Regulatory Guide 1.147, Revision 15, that are incorporated by reference in paragraph (b) of this section) applied to the construction of the particular component.

* * * * *

(4) * * *

(i) Inservice examination of components and system pressure tests conducted during the initial 120-month inspection interval must comply with the requirements in the latest edition and addenda of the Code incorporated by reference in paragraph (b) of this section on the date 12 months before the date of issuance of the operating license (or the optional ASME Code cases listed in NRC Regulatory Guide 1.147, Revision 15, that are incorporated by reference in paragraph (b) of this section, subject to the limitations and modifications listed in paragraph (b) of this section.

(ii) Inservice examination of components and system pressure tests conducted during successive 120-month inspection intervals must comply with the requirements of the latest edition and addenda of the Code incorporated by reference in paragraph (b) of this section 12 months before the start of the 120-month inspection interval (or the optional ASME Code cases listed in NRC Regulatory Guide 1.147, Revision 15, that are incorporated by reference in paragraph (b) of this section), subject to the limitations and modifications listed in paragraph (b) of this section.

* * * * *

Dated at Rockville, Maryland, this 5th day of September, 2006.
For the Nuclear Regulatory Commission.
Luis A. Reyes,
Executive Director for Operations.

[FR Doc. E6-18023 Filed 10-26-06; 8:45 am]

BILLING CODE 7590-01-P